ENVIRONMENTAL PROTECTION AGENCY

[FRL-9959-84-OW]

Environmental Financial Advisory Committee; Request for Nominations of Candidates to the Environmental Financial Advisory Board; Reopening of Request for Nominations

AGENCY: Environmental Protection Agency (EPA).

ACTION: Notice: Extension of nominee solicitation.

SUMMARY: The Environmental Protection Agency (EPA) issued a notice in the Federal Register issue of December 29, 2016 inviting qualified candidates to be considered for appointments to fill vacancies on the Environmental Financial Advisory Board (EFAB). This document extends the solicitation period for nominations to Friday, March 31, 2017. The Agency received several request to extend the nomination period to allow the new Administrator the opportunity to participate in this effort.

DATES: Nominations identified by docket identification (ID) number FRL-9957-61-OW must be received on or before March 31, 2017.

ADDRESSES: Follow the detailed instructions as provided under ADDRESSES in the Federal Register document of December 29, 2017.

FOR FURTHER INFORMATION CONTACT: Submit nomination materials by electronic mail to: Alecia F. Crichlow, Membership Coordinator, Environmental Financial Advisory Board, crichlow.alecia@epa.gov.

SUPPLEMENTARY INFORMATION: This document extends the nomination period established in the Federal Register issue of December 29, 2016 (FRL-9957-61-OW) to Friday, March 31, 2017. The Environmental Financial Advisory Board was chartered in 1989 under the Federal Advisory Committee Act to provide advice and recommendations to EPA on the following issues: Reducing the cost of financing environmental facilities and discouraging polluting behavior; creating incentives to increase private investment in the provision of environmental services and removing or reducing constraints on private involvement imposed by current regulations; developing new and innovative environmental financing approaches and supporting and encouraging the use of cost-effective existing approaches; identifying approaches specifically targeted to small/disadvantaged community financing; increasing the capacity of state and local governments to carry out their respective environmental programs under current Federal tax laws; analyzing how new technologies can be brought to market expeditiously; and, increasing the total investment in environmental protection of public and private environmental resources to help ease the environmental financing challenge facing our nation.

To submit nominations, or access the docket, please follow the detailed instructions as provided under ADDRESSES in the December 29, 2016 Federal Register document. If you have questions, consult the person listed under FOR FURTHER INFORMATION CONTACT.

Dated: February 17, 2017.
Andrew Sawyer,
Director, Office of Wastewater Management, Office of Water.

[FR Doc. 2017-05821 Filed 3-22-17; 8:45 am]

BILLING CODE 6560-50-P